COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds service(s) to the Procurement List that will be furnished by nonprofit agencies employing persons who are blind or have other severe disabilities and deletes product(s) and service(s) from the Procurement List previously furnished by such agencies.

DATES: Date added to and deleted from the Procurement List: December 1, 2024.

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION:

Additions

On January 26, 2024, the Committee for Purchase From People Who Are Blind or Severely Disabled (operating as the U.S. AbilityOne Commission) published an initial notice of proposed additions to the Procurement List. (89 FR 5214). The Committee determined that the service listed below is suitable for procurement by the Federal Government and has added this service to the Procurement List as a mandatory purchase for the contracting activity listed. In accordance with 41 CFR 51-5.3(b), the mandatory purchase requirement is limited to the contracting activity at the location listed, and in accordance with 41 CFR 51-5.2, the Committee has authorized the nonprofit agency listed as the authorized source of supply.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following product(s) and service(s) are added to the Procurement List:

Service(s)

Service Type: Logistics Support Service, Supply Chain Management

Mandatory for: US Navy, Naval Sea Systems Command, Southwest Regional Maintenance Center, Naval Base San Diego, San Diego, CA

Authorized Source of Supply: Professional Contract Services, Inc., Austin, TX

Contracting Activity: DEPT OF THE NAVY, SOUTHWEST REGIONAL MAINT CENTER

The Committee finds good cause to dispense with the 30-day delay in the effective date normally required by the Administrative Procedure Act. See 5 U.S.C. 553(d). This addition to the Committee's Procurement List is effectuated because of the expiration of the Department of the Navy, Logistics Support Service, US Navy, SWRMC, San Diego, CA contract. The Federal customer contacted and has worked diligently with the AbilityOne Program to fulfill this service need under the AbilityOne Program. To avoid performance disruption, and the possibility that the Department of the Navy will refer its business elsewhere, this addition must be effective on November 20, 2024, ensuring timely execution for a November 22, 2024 start date. The Committee published an initial notice of proposed Procurement List addition in the Federal Register on September 13, 2024 (89 FR 74928) but did not receive any comments. This addition will not create a public hardship and has limited effect on the public at large. Rather, this addition will create new jobs for other affected parties—people with significant disabilities in the AbilityOne program who otherwise face challenges locating employment. Moreover, this addition enables the Federal customer to continue operations without interruption.

Deletions

On September 27, 2024 (89 FR 79259), the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

6515-00-NIB-0571—Glove, Exam, Powder-Free, Nitrile, Non-Latex, Textured, Midnight, Black, Small

6515-00-NIB-0572—Glove, Exam, Powder-Free, Nitrile, Non-Latex, Textured, Midnight, Black, Medium

6515-00-NIB-0573—Glove, Exam, Powder-Free, Nitrile, Non-Latex, Textured, Midnight, Black, Large

6515-00-NIB-0574—Glove, Exam, Powder-Free, Nitrile, Non-Latex, Textured, Midnight, Black, X-Large

Authorized Source of Supply: Central Association for the Blind and Visually Impaired, Utica, NY

Contracting Activity: DEPT OF JUST/FEDERAL BUREAU OF INVESTIGATION, WASHINGTON, DC

NSN(s)—Product Name(s):

8105-01-582-6877—M26 MASS Ammunition Magazine Pouch, ACU Camouflage

Authorized Source of Supply: LC Industries, Inc., Durham, NC

Contracting Activity: W6QK ACC-PICA, PICATINNY ARSENAL, NJ

NSN(s)—Product Name(s):

6530-01-321-5592—Table, Field Operating

Authorized Source of Supply: The Lighthouse for the Blind, Inc. (Seattle Lighthouse), Seattle, WA

Contracting Activity: DLA TROOP SUPPORT, PHILADELPHIA, PA

NSN(s)—Product Name(s):

7530-01-501-2688—Pad, Message, “While You Were Out”

Authorized Source of Supply: Blind Industries & Services of Maryland, Baltimore, MD

Contracting Activity: GSA/FAS ADMIN SVCS ACQUISITION BR(2, NEW YORK, NY

Service(s)

Service Type: Mess Attendant Service

Mandatory for: US Navy, JEBLCFS Galley 2, Virginia Beach, VA

Authorized Source of Supply: Louise W. Eggleston Center, Inc., Norfolk, VA

Authorized Source of Supply: Community Alternatives, Incorporated, Norfolk, VA

Contracting Activity: DEPT OF THE NAVY, NAVSUP FLT LOG CTR NORFOLK

Service Type: Mailroom Operation

Mandatory for: US Army, Customer Support Division, US Army Garrison Adelphi Laboratory Center, Adelphi, MD

Authorized Source of Supply: WeAchieve, Inc., Silver Spring, MD

Contracting Activity: DEPT OF THE ARMY, W6QK ACC-APG ADELPHI

Service Type: Mailroom Operation

Mandatory for: US Army Corps of Engineers, Cold Regions Research and Engineering Laboratory (CRREL), Hanover, NH

Authorized Source of Supply: Northern New England Employment Services, Portland, ME

Contracting Activity: DEPT OF THE ARMY, W2R2 COLD RGNS RSCH ENG LAB

Service Type: Records digitization

Mandatory for: Ohio Army Reserve National Guard Element, Joint Forces Headquarters, Columbus, Ohio

Authorized Source of Supply: Coleman Professional Services, Kent, OH

Contracting Activity: DEPT OF THE ARMY, W7NU USPFO ACTIVITY OH ARNG

Service Type: Janitorial/Grounds Maintenance

Mandatory for: GSA PBS Region 3, Mount Hope Federal Building, Mount Hope, WV

Authorized Source of Supply: Integrated Resources, Inc., Maben, WV

Contracting Activity: PUBLIC BUILDINGS SERVICE, PBS R3

Michael R. Jurkowski,
Director, Business Operations.

[FR Doc. 2024-25515 Filed 11-1-24; 8:45 am]

BILLING CODE P